DEPARTMENT OF TRANSPORTATION

Federal Aviation Administration

[Docket No. ANM-111-05-004]

Lightning Direct Effects Compliance

AGENCY: Federal Aviation Administration (FAA), DOT.

ACTION: Notice of proposed policy; request for comments.

SUMMARY: The Federal Aviation Administration (FAA) announces the availability of proposed policy on Lightning Direct Effects Compliance. The proposed policy would accept SAE International Aerospace Recommended Practice 5577 as a means of compliance with the Lightning Direct Effects requirements.

DATES: Send your comments on or before February 9, 2006.

ADDRESSES: Address your comments to the individual identified under FOR FURTHER INFORMATION CONTACT.

FOR FURTHER INFORMATION CONTACT: Greg Dunn, FAA, Airplane and Flight Crew Interface Branch, ANM-111, Transport Airplane Directorate, Aircraft Certification Service, 1601 Lind Avenue SW., Renton, Washington 98055-4056; telephone (425) 227-2799; facsimile (425) 227-1320.

SUPPLEMENTARY INFORMATION:

Comments Invited

The proposed policy memorandum is available on the Internet at the following address: http://www.airweb.faa.gov/rgl. If you do not have access to the Internet, you can obtain a copy of the proposed policy memorandum by contacting the person listed under FOR FURTHER INFORMATION CONTACT.

The FAA invites your comments on this proposed policy memorandum. We will accept your comments, data, views, or arguments by letter, fax, or e-mail. Send your comments to the person indicated in FOR FURTHER INFORMATION CONTACT. Mark your comments, “Comments to Policy Statement No. ANM-111-05-004.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

The proposed policy would recognize Society of Automotive Engineers Aerospace Recommended Practice 5577, Aircraft Lightning Direct Effects Certification, as an acceptable method of compliance to the requirements of § 25.581 for part 25 transport category airplanes.

Issued in Renton, Washington, on December 19, 2005.
Kalene C. Yanamura,
Acting Manager, Transport Airplane Directorate, Aircraft Certification Service.

[FR Doc. 06-201 Filed 1-9-06; 8:45 am]

BILLING CODE 4910-13-M